ENVIRONMENTAL PROTECTION AGENCY

[ER-FRL-9034-8]

Environmental Impact Statements; Notice of Availability

Responsible Agency: Office of Federal Activities, General Information (202) 564-7146 or http://www.epa.gov/nepa.

Weekly receipt of Environmental Impact Statements (EISs)

Filed 08/14/2017 Through 08/18/2017

Pursuant to 40 CFR 1506.9.

Notice

Section 309(a) of the Clean Air Act requires that EPA make public its comments on EISs issued by other Federal agencies. EPA's comment letters on EISs are available at: http://www.epa.gov/compliance/nepa/eisdata.html.

EIS No. 20170160, Draft, BR, CA, Sites Reservoir Project, Comment Period Ends: 11/13/2017, Contact: Mike Dietl 916-978-5070

EIS No. 20170161, Draft, USFS, MT, Kootenai Forest-Wide Young Growth Vegetation Management Project, Comment Period Ends: 10/10/2017, Contact: Quinn Carver 406-283-7695

EIS No. 20170162, Draft Supplement, USFWS, MT, Proposed Amendment to the Endangered Species Act 10(a)(1)(B) Permit Associated with the Montana Department of Natural Resources and Conservation Forested State Trust Lands Habitat Conservation Plan, Comment Period Ends: 10/09/2017, Contact: Amelia Orton-Palmer 303-236-4211

EIS No. 20170163, Final, NPS, MD, Assateague Island National Seashore General Management Plan, Review Period Ends: 09/25/2017, Contact: Deborah Darden 410-629-6080

EIS No. 20170164, Draft, USFS, CA, Exchequer Restoration Project, Comment Period Ends: 10/09/2017, Contact: Elaine Locke 559-855-5355

Dated: August 22, 2017.
Dawn Roberts,
Management Analyst, NEPA Compliance Division, Office of Federal Activities.

[FR Doc. 2017-18079 Filed 8-24-17; 8:45 am]

BILLING CODE 6560-50-P